DEPARTMENT OF TRANSPORTATION

Federal Aviation Administration

14 CFR Part 39

[Docket No. FAA-2012-0939; Directorate Identifier 2011-NM-200-AD]

RIN 2120-AA64

Airworthiness Directives; Airbus Airplanes

AGENCY: Federal Aviation Administration (FAA), DOT.

ACTION: Notice of proposed rulemaking (NPRM).

SUMMARY: We propose to adopt a new airworthiness directive (AD) for certain Airbus Model A330-202, -203, -223, -243, -302, -323, -342, and -343 airplanes; and Model A340-313 airplanes. This proposed AD was prompted by reports that a specific batch of cargo doors might have deviations in quality related to door structure, such as irregular bore holes, improper application of sealant and paint, or uncleanliness. This proposed AD would require inspecting to identify the part and serial numbers of the forward and aft cargo doors, and replacing the affected cargo doors. We are proposing this AD to prevent the degraded structural capability of the cargo door, a primary structure, from leading to failure of the door, which could lead to a breach through the door or the door detaching from the airplane, resulting in potential rapid decompression.

DATES: We must receive comments on this proposed AD by November 5, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS—Airworthiness Office—EAL, 1 Rond Point Maurice Bellonte, 31707 Blagnac Cedex, France; telephone +33 5 61 93 36 96; fax +33 5 61 93 45 80; email airworthiness.A330-A340@airbus.com; Internet http://www.airbus.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Vladimir Ulyanov, Aerospace Engineer, International Branch, ANM-116, Transport Airplane Directorate, FAA, 1601 Lind Avenue SW., Renton, Washington 98057-3356; telephone (425) 227-1138; fax (425) 227-1149.

SUPPLEMENTARY INFORMATION:

Comments Invited

We invite you to send any written relevant data, views, or arguments about this proposed AD. Send your comments to an address listed under the ADDRESSES section. Include “Docket No. FAA-2012-0939; Directorate Identifier 2011-NM-200-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0177, dated September 15, 2011 (corrected September 28, 2011) (referred to after this as “the MCAI”), to correct an unsafe condition for the specified products. The MCAI states:

Investigations have shown that a specific batch of cargo doors might have deviations in quality, such as irregular bore holes, improper application of sealant and paint or cleanliness. These production deviations are related to the quality of the door structure.

This condition, if not corrected, may degrade the structural integrity of the affected Forward (Fwd) and Aft cargo doors.

For the reasons described above, this [EASA] AD requires a one-time inspection to identify the [part and serial numbers of the] Fwd and Aft cargo doors, and replacement of the affected cargo doors.

* * * * *

The unsafe condition is the degraded structural capability of the cargo door, a primary structure, which could lead to failure of the door, which could detach from the airplane or have a breach through the door, resulting in potential decompression. Required actions include contacting the FAA, or EASA (or its delegated agent), for repair instructions for any door part/serial number that cannot be identified for a specified airplane. You may obtain further information by examining the MCAI in the AD docket.

Relevant Service Information

Airbus has issued Mandatory Service Bulletins A330-52-3083 (for affected Model A330 airplanes) and A340-52-4093 (for Model A340-313 airplanes), both dated May 31, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

Based on the service information, we estimate that this proposed AD would affect about 6 products of U.S. registry. We also estimate that it would take about 2 work-hours per product to comply with the basic requirements of this proposed AD. The average labor rate is $85 per work-hour. Based on these figures, we estimate the cost of the proposed AD on U.S. operators to be $1,020, or $170 per product.

In addition, we estimate that any necessary follow-on actions would take about 52 work-hours and require parts costing $0, for a cost of $4,420 per product; the manufacturer has agreed to reimburse these labor costs. Where the service information lists required parts costs that are covered under warranty, we have assumed that there will be no charge for these parts. As we do not control warranty coverage for affected parties, some parties may incur costs higher than estimated here. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2012-0939; Directorate Identifier 2011-NM-200-AD.

(a) Comments Due Date

We must receive comments by November 5, 2012.

(b) Affected ADs

None.

(c) Applicability

This AD applies to Airbus airplanes, certificated in any category, as identified in paragraphs (c)(1) and (c)(2) of this AD.

(1) Model A330-202, -203, -223, -243, -302, -323, -342, and -343 airplanes, manufacturer serial numbers (MSN) 0796, 0832, 0840, 0845, 0849, 0853, 0855, 0861, 0862, 0866, 0868, 0871, 0873, 0876, 0879, 0882, 0885, 0887, 0889, 0891, 0892, 0896, 0898, 0899, 0903, 0904, 0905, 0907, 0913, 0927, 0930, 0935, 0936, 0937, 0940, 0943, 0944, 0946, 0949, 0952, 0954, 0964, 0971, 0975, 0982 through 0986 inclusive, 0988, 0989, 0990, 0992, 0994, 0995, 0997, 0998, 0999, 1001, 1002, 1003, 1006, 1007, 1009 through 1016 inclusive, 1018, 1020, 1022, 1023, 1026, 1028, 1029, 1037, 1045, 1049, 1052, 1053, 1055, 1058, 1060, 1061, 1065 through 1067 inclusive, 1071 through 1075 inclusive, 1077, 1080, and 1082.

(2) Model A340-313 airplane, MSN 0955.

(d) Subject

Air Transport Association (ATA) of America Code 52: Doors.

(e) Reason

This AD was prompted by reports that a specific batch of cargo doors might have deviations in quality related to door structure, such as irregular bore holes, improper application of sealant and paint, or uncleanliness. We are issuing this AD to prevent the degraded structural capability of the cargo door, a primary structure, from leading to failure of the door, which could detach from the airplane or have a breach through the door, resulting in potential rapid decompression.

(f) Compliance

You are responsible for having the actions required by this AD performed within the compliance times specified, unless the actions have already been done.

(g) Inspection

At the later of the times specified in paragraphs (g)(1) and (g)(2) of this AD: Inspect to identify the part number and serial number of the airplane's forward and aft cargo doors, as applicable to MSN, in accordance with the Accomplishment Instructions of Airbus Mandatory Service Bulletin A330-52-3083, dated May 31, 2011 (for Model A330 airplanes); or Airbus Mandatory Service Bulletin A340-52-4093, dated May 31, 2011 (for Model A340 airplanes). A review of airplane maintenance records is acceptable in lieu of this inspection if the part number and serial number of the door can be conclusively determined from that review.

(1) Prior to the accumulation of 7,400 total flight cycles, or 72 months after the airplane's first flight, whichever occurs first.

(2) Within 60 days after the effective date of this AD.

(h) Replacement

If, during the inspection required by paragraph (g) of this AD, the part number and serial number of the airplane's forward and/or aft cargo doors, as applicable to airplane MSN, are identified in Airbus Mandatory Service Bulletin A330-52-3083, dated May 31, 2011 (for Model A330 airplanes); or Airbus Mandatory Service Bulletin A340-52-4093, dated May 31, 2011 (for Model A340 airplanes): Before further flight, replace the affected door with a new or serviceable door, in accordance with the Accomplishment Instructions of Airbus Mandatory Service Bulletin A330-52-3083, dated May 31, 2011; or Airbus Mandatory Service Bulletin A340-52-4093, dated May 31, 2011; as applicable.

(i) Repair

If, during the inspection required by paragraph (g) of this AD, there is any discrepancy between the installed forward and/or aft cargo doors part/serial number and the airplane MSN, as that part/serial number and MSN are identified in Airbus Mandatory Service Bulletin A330-52-3083, dated May 31, 2011 (for Model A330 airplanes); or Airbus Mandatory Service Bulletin A340-52-4093, dated May 31, 2011 (for Model A340 airplanes): Within 10 days after accomplishing the inspection, contact the FAA, or the European Aviation Safety Agency (EASA) (or its delegated agent), for further instructions and time limits, and accomplish those instructions within the specified time limits.

(j) Parts Installation Prohibition

As of the effective date of this AD, no person may install on any airplane a forward or aft cargo door that was removed from any airplane as required by paragraph (h) of this AD.

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Vladimir Ulyanov, Aerospace Engineer, International Branch, ANM-116, Transport Airplane Directorate, FAA, 1601 Lind Avenue SW., Renton, Washington 98057-3356; telephone (425) 227-1138; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI EASA Airworthiness Directive 2011-0177, dated September 15, 2011 (corrected September 28, 2011), and the service information identified in paragraphs (l)(1) and (l)(2) of this AD, for related information.

(1) Airbus Mandatory Service Bulletin A330-52-3083, dated May 31, 2011.

(2) Airbus Mandatory Service Bulletin A340-52-4093, dated May 31, 2011.

Issued in Renton, Washington, on September 6, 2012.
Ali Bahrami,
Manager, Transport Airplane Directorate, Aircraft Certification Service.

[FR Doc. 2012-23147 Filed 9-19-12; 8:45 am]

BILLING CODE 4910-13-P